FEDERAL COMMUNICATIONS COMMISSION

47 CFR Parts 10 and 11

[PS Docket No. 25-224, FCC 25-50; FR ID 309226]

Modernization of the Nation's Alerting Systems

AGENCY: Federal Communications Commission.

ACTION: Notice of proposed rulemaking.

SUMMARY: In this document, the Federal Communications Commission (Commission) begins a reexamination of the Emergency Alert System (EAS) and Wireless Emergency Alerts (WEA) from the ground up and seeks comment on whether fundamental changes could make these alerting systems more effective, efficient, and better able to serve the public's needs. EAS was introduced 31 years ago, and WEA was introduced 13 years ago, using the technology available at the time. The Commission seeks comment on what goals these alerting systems should aim to achieve, whether these systems are currently effective at achieving these goals, and what steps should be taken to modernize these systems to improve their usefulness and better leverage modern technology while minimizing burdens on stakeholders.

DATES: Comments will be accepted until September 25, 2025. Reply comments will be accepted until October 10, 2025.

ADDRESSES: You may submit comments, identified by PS Docket No. 25-224, by any of the following methods:

• Federal Communications Commission's Website: https://www.fcc.gov/ecfs. Follow the instructions for submitting comments.

• Mail/Paper Filings: See the instructions in the SUPPLEMENTARY INFORMATION section of this document.

• People with Disabilities: Contact the FCC to request reasonable accommodations (accessible format documents, sign language interpreters, CART, etc.) by email: FCC504@fcc.gov or phone: 202-418-0530.

For detailed instructions for submitting comments and additional information on the rulemaking process, see the SUPPLEMENTARY INFORMATION section of this document.

FOR FURTHER INFORMATION CONTACT: George Donato, Associate Division Chief, Cybersecurity and Communications Reliability Division, Public Safety and Homeland Security Bureau, at (202) 418-0729, or george.donato@fcc.gov; or Tara Shostek, Attorney-Advisor, Cybersecurity and Communications Reliability Division, Public Safety and Homeland Security Bureau, at (202) 418-8130, or tara.shostek@fcc.gov.

SUPPLEMENTARY INFORMATION: This is a summary of the Commission's Notice of Proposed Rulemaking (NPRM), PS Docket No. 25-224; FCC 25-50, adopted August 7, 2025, and released August 8, 2025. The full text of this document is available by downloading the text from the Commission's website at: https://www.fcc.gov/document/fcc-proposes-modernization-nations-alerting-systems. The full text of this document is available for public inspection and copying during regular business hours in the FCC Reference Center, 45 L Street NE, Washington, DC 20554. To request materials in accessible formats for people with disabilities (Braille, large print, electronic files, audio format), send an email to FCC504@fcc.gov or call the Consumer & Governmental Affairs Bureau at 202-418-0530 (voice).

Procedural Matters

Comment Filing Requirements

Pursuant to §§ 1.415 and 1.419 of the Commission's rules, 47 CFR 1.415, 1.419, interested parties may file comments and reply comments on or before the dates indicated on the first page of the NPRM. Comments may be filed using the Commission's Electronic Comment Filing System (ECFS).

• Electronic Filers: Comments may be filed electronically using the internet by accessing the ECFS: https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the Commission's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

Ex Parte Rules

The proceeding this NPRM initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b). In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Analysis

The Regulatory Flexibility Act of 1980, as amended (RFA), requires that an agency prepare a regulatory flexibility analysis for notice-and-comment rulemaking proceedings, unless the agency certifies that “the rule will not, if promulgated, have a significant economic impact on a substantial number of small entities.” Accordingly, the Commission has prepared an Initial Regulatory Flexibility Analysis (IRFA) concerning potential rule and policy changes contained in this NPRM. The IRFA is set forth in Appendix A of the FCC document, https://www.fcc.gov/document/fcc-proposes-modernization-nations-alerting-systems. The Commission invites the general public, in particular small businesses, to comment on the IRFA. Comments must be filed by the deadlines for comments on the NPRM indicated on the first page of the NPRM and must have a separate and distinct heading designating them as responses to the IRFA.

Paperwork Reduction Act

This NPRM does not contain proposed information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

Providing Accountability Through Transparency Act

Consistent with the Providing Accountability Through Transparency Act, Public Law 118-9, a summary of this NPRM will be available on https://www.fcc.gov/proposed-rulemakings.

Synopsis

Congress established the Commission for the purposes of, among other things, the national defense and “promoting safety of life and property through the regulation of wire and radio communications networks.” For nearly 75 years, the Commission has implemented this mandate by adopting rules that set technical and other requirements to provide the public with an effective national public alert and warning system. The Commission's approach to emergency alerting has been to implement regulations intended to leverage existing commercial communications infrastructure for public safety purposes and to update that existing capability over time to reflect advances in technology and evolving consumer expectations. While this approach has gradually improved the nation's alerting capabilities, it may also have restricted innovation by preserving alerting frameworks that are decades old without examining whether more fundamental structural changes are warranted.

In this NPRM, the Commission takes a novel approach by seeking first to identify what goals the nation's alert and warning systems should be designed to serve. Proceeding from these first principles will enable the Commission to explore alternatives to our historical regulatory approach and consider how to maximize the usefulness, effectiveness, and resiliency of EAS and WEA consistent with our legal authority. As part of this examination, the Commission seeks to identify the objectives that an effective national alerting system should advance, how alerting systems should be designed to ensure that they serve the needs of alerting authorities, what kinds of information alerting systems should deliver, how that information can be most effectively conveyed to the public, public expectations when receiving that information, and other important considerations necessary for modernizing the nation's public alert and warning capabilities.

A. Objectives of Alerting Systems

The Commission seeks comment on the objectives that effective alert and warning systems should serve. Based on our experience in overseeing requirements for EAS and WEA, the Commission identifies and seeks comment on the following three goals: (1) alerting systems should provide authorities with the ability to rapidly notify the public of emergencies that may put the public at risk; (2) alerting systems should be capable of delivering instructions that facilitate the protection of life and property; and (3) alerting systems should provide a mechanism for government officials to provide additional authoritative communications with the public before, during, and after an emergency. Do these statements accurately reflect the core goals of alerting systems, and if not, should they be articulated in a different way? Are there additional objectives related to the protection of life and property that the nation's alerting systems should serve? Should the objectives of these alerting systems be grounded solely in the capabilities that the alerting service should provide, or should the objectives also be grounded in achieving particular public safety outcomes (e.g., ensuring that all members of the public receive an alert and take protective action)?

B. The Role of Alerting Authorities

The Commission seeks comment on which entities need to be able to send alerts to fully accomplish these objectives in order to maximize the capabilities and effectiveness of alerting systems. Government entities, including agencies at the federal, state, Tribal, territorial, or local level, are currently allowed to send alerts. Because of government agencies' differing responsibilities and geographic jurisdictions, the Commission believes that the objectives of alerting systems are best served by all of these types of agencies having the ability to send alerts. The Commission seeks comment on this view. Is it important that each of these types of government agencies be able to send alerts? How does the ability to send alerts at different levels of government advance the objectives of the nation's alerting systems? Are there ways in which the current range of alert originators either undermines or fails to adequately support these objectives? For example, are there agencies, especially at different levels of government, that have similar roles, and if so, can and should alerting systems reconcile alerts from different sources so as to avoid duplication and alert fatigue? If so, how should this be done?

The Commission has consistently concluded that a core purpose of EAS is to enable the transmission of an emergency alert from the President or his designee during a national emergency. The Commission believes that the President's ability to effectively communicate with the public in times of crisis remains of paramount importance to public safety during a national emergency and therefore is critical to accomplishing the nation's alerting objectives. In furtherance of those objectives, the Commission believes that the nation's alerting systems should be designed to allow the President to both send the public an immediate warning to take protective action and to later provide additional information and reassurance to the public. The Commission seeks comment on these views. How should alerting systems be designed to ensure that these capabilities are available and maximally effective during national emergencies? For example, would it be most effective for alerting systems to be able to support video messages from the President? The Commission seeks estimates of the incremental cost of implementing a universal, “video-rich” alert system for the United States. What are the different ways that video-based alerts could be implemented in EAS and WEA today? The Commission encourages commenters to provide cost estimates on implementing a video-rich alert system and address how video-rich alerts may impact network availability for the public and public safety. What technical steps would EAS Participants and Participating CMS Providers need to take to implement video alerting capabilities within the next two years?

Nearly all alerts that the public receives day-to-day are originated by other agencies at the federal, state, Tribal, territorial, or local level. This includes weather alerts sent by NWS, early earthquake warnings sent by the Department of Interior's United States Geological Survey, and AMBER alerts sent by numerous state and local agencies nationwide. In light of the essential role that these other agencies play in achieving the nation's alert and warning objectives, the Commission believes that the alerting needs of these agencies should also play a driving role in the design of the nation's alerting systems. The Commission seeks comment on this view. Are EAS and WEA, as designed today, effective tools that allow these agencies to fully achieve their alerting objectives? If not, what changes should be made to these systems to better support these agencies? Would it be effective for alerting systems to be able to support video messages from these agencies? Are there certain kinds of emergencies that EAS and WEA are not designed to adequately support today, and if so, what steps can be taken to better support those emergencies? If the Commission were to incentivize greater use of EAS and WEA by local officials, would the resulting increase in alerts make the public more likely to receive life-saving alerts? Does alerting by local officials offer any unique benefits? Would an increase in local alerting increase the risk of alert fatigue, and if so, how can this risk be mitigated?

Are there any circumstances in which it would serve the objectives of the nation's alert and warning systems for non-government entities to send safety-related alerts via these systems? If so, which types of entities should be permitted to send alerts and in what situations should they be permitted to send them? For example, should utility companies have the ability to more immediately notify the public of hazards like downed power lines, gas leaks, rolling blackouts, or dangers in the potable water supply, rather than relying on government entities to relay messages on their behalf? Does accomplishing the nation's alert and warning objectives require an expansion of the ability of EAS and WEA to support machine-to-machine alerting (e.g., using networked sensors to trigger automated protective action, such as slowing trains or closing water valves)? How should EAS and WEA be redesigned to better support these types of alerts? In cases of non-governmental entities transmitting safety-related alerts and machine-to-machine alerting, what level of transparency and governmental oversight would be needed to ensure effective and resilient alerting, and preserve consumer trust in the information being conveyed? On the other hand, should government agencies be the sole initiators of alerts via the nation's alert and warning systems because of their unique responsibilities, such as their roles in protecting public safety? Would allowing only government agencies to originate alerts preserve public trust in alert and warning systems and maintain democratic accountability?

C. Transmission Capabilities of Alerting Systems

The Commission seeks comment on the alert transmission capabilities that a national public alert and warning system must have to achieve its objectives. What are alert originators' expectations for the ways and the circumstances under which alerts should be successfully delivered? Should the nation's alerting systems be designed with the purpose of guaranteeing delivery of each alert to the intended audience, regardless of the conditions on the ground? Or should these alerting systems instead be designed to require only a “best effort” attempt at delivery and rely on a likelihood that the audience will receive at least one alert from a number of possible sources? Are there certain types of alerts, such as alerts sent by the President, for which delivery must be consistently guaranteed for the objectives of the alerting system to be satisfied? Does voluntary, rather than mandatory, participation in the nation's alerting systems diminish alert originators’ confidence that their alert will reach their targeted audience? Today, it is voluntary for EAS Participants to transmit state and local alerts. For WEA, participation by CMS providers is voluntary, though once a CMS provider elects to participate in WEA, it is required to transmit alerts in a manner consistent with the Commission's rules. Is voluntary participation consistent with the objectives of the nation's alert and warning systems? The Commission seeks comment on the steps that the Commission and other stakeholders should take to strike a better balance between burdens of supporting EAS and WEA and the goals of ensuring uniformity and consistency in alert transmission.

The Commission believes that not only is it reasonable to expect that alerts will be successfully delivered to all targeted members of the public during blue-sky conditions, but that alerting systems should also incorporate resilience to common causes of disruption to communications, such as power outages and physical damage to infrastructure. The Commission seeks comment on this view, including what approaches to resiliency would best achieve the objectives of the nation's alert and warning systems. EAS, for instance, was originally designed to continue operating when traditional communication methods are not functioning and alerts can only be delivered via independently powered broadcast facilities. Does this approach to EAS resiliency remain necessary today? Are there other alternative communications pathways that EAS and WEA can leverage to ensure redundancy? Should EAS and WEA both be independently resilient (i.e., having multiple redundant pathways within EAS, as well as within WEA) or is it sufficient for EAS to provide a redundant source of alerts to WEA and vice versa? Could existing public alert and warning infrastructure be made more resilient by increasing the interoperability of EAS and WEA (e.g., by enabling mobile devices capable of receiving a WEA to receive EAS alerts when cellular infrastructure is damaged)?

The Commission also believes that it is necessary for alerting systems to be capable of delivering alerts to specific populations that are targeted by alerting authorities, without delivering the alert to populations that are not targeted. The Commission seeks comment on this view. What levels of precision and accuracy do alerts need to fulfill the objectives of the nation's alert and warning systems? Can existing technologies deliver alerts with that precision or accuracy, and if so, should those technologies be integrated into the design of EAS and WEA? What is the potential for future technologies to improve upon the geographic precision with which alerts can be delivered? How can the Commission's rules be amended to facilitate such innovation and not impede it? Are alert originators less likely to use alerting systems when their geographic targeting is insufficiently accurate? The Commission has historically been concerned that the receipt of alerts that are not relevant to the recipient can cause alert fatigue, which can cause people to ignore future alerts and, in the case of WEA, opt out of receiving certain types of alerts. The Commission seeks comment on what the threshold should be at which geographic overshoot becomes unreasonable and undermines alerting objectives. What changes would need to be made to EAS and WEA to ensure that overshoot does not exceed that threshold? In the past, NWS has observed that threats that arise due to extreme weather are not stationary, but continually in motion (e.g., tornados, hurricanes, wildfires, extreme winds, storm surges). Should alerting systems be designed to support the targeting of alerts to a continually updated target area and to the people entering and leaving that area? If so, what technical changes would need to be made for EAS and WEA to support this capability?

The Commission believes that the nation's alerting systems should be designed to be secure against cyberattacks from our nation's adversaries. If an adversary were to gain access to these systems, they could potentially send a false alert, which could cause public panic, or prevent a real alert from being issued, which could cause a significant loss of life. As a consequence, keeping these systems secure is essential to both national security and achieving the nation's alerting objectives. The Commission seeks comment on this view. Are there specific authentication, validation, and security measures that EAS and WEA should be designed to incorporate? Would public trust in alerts be enhanced if alerting systems provided some kind of visual indication that an alert is authoritative and trustworthy? When considering the tradeoffs of competing aspects of the design of EAS and WEA such as security, the support of multimedia alert content, and the speed of alert delivery, which should the Commission prioritize? Commenters are encouraged to address any trade-offs to implementation on security and authentication based on the urgency or severity of an event. For example, for large or impactful disasters, how would security validation or authentication require adjustments due to lack of access to infrastructure or to ensure resiliency?

D. Information Conveyed to the Public

The Commission seeks comment on the kinds of information that alerts need to be able to convey to the public for the nation's alert and warning systems to effectively accomplish their objectives. For instance, our WEA rules require Participating CMS Providers to support five mandatory elements in WEA messages: the type of hazard event, the geographic area affected, a recommended protective action, the expiration time of the alert, and the identity of the sending agency. Research indicates that when people receive this information, they are much more likely to take the protective actions described in the alert. The Commission believes that the nation's alert and warning systems should be designed to support the transmission of each of these elements in an alert message to the public. The Commission seeks comment on this view. Notwithstanding EAS and WEA's capability to support these informational elements, research has found that most WEA messages lack some of this information. The Commission seeks comment on whether there are resources, such as training materials or best practices, that could be made available to alert originators to promote alert message quality, uniformity, and consistency.

Should EAS and WEA be designed to require that all of these elements be included in the alerts that are sent to the public, or would such an approach be too inflexible for alerting authorities, and if so, how? What approaches to EAS and WEA design can be taken to maximize the likelihood that alerts include information that is most relevant to their recipients? Are there other types of information or ways of communicating that alerting systems need to support in order to be effective? For example, would the ability to include a static graphic or a video as part of an alert better allow alerting authorities to achieve their public safety goals? The Commission seeks comment on how the nation's alerting systems can better serve communities by delivering alerts in the languages they understand. Building on prior efforts to support multilingual alerting, should the Commission take additional steps to ensure alerts effectively reach non-English-speaking populations? The Commission invites input on how multilingual capabilities should inform the design and modernization of EAS and WEA.

E. How the Public Receives Alerts

The Commission seeks comment on how alerts must be received by the public for the objectives of the nation's alert and warning systems to be realized. Today, the public can receive emergency alerts from various sources like mobile devices, radio and television broadcasts, cable services, wireline video services, and road signs. The public, however, increasingly engages with content through other media and platforms that are not equipped to interrupt content to provide emergency messages, such as personal computers, tablets without commercial mobile service, wearable technology, gaming consoles, smart speakers, streaming services, and social media. This shift in consumer behavior indicates that fewer people may be using the platforms through which emergency messages have been traditionally issued, which may frustrate the EAS and WEA systems' objectives of widespread public notification about emergencies. Are the services that transmit EAS alerts—radio and television broadcast, cable service, wireline video services, and certain satellite services—representative of how people consume video and audio services today? Does EAS remain an effective tool for alert originators if it only makes alerts available over those services? If the public's media habits are changing, what changes can the Commission implement to make sure that EAS and WEA continue to follow the public's eyes and ears, consistent with the scope of its legal authority? Alternatively, is a new alerting system needed to reach the public on these other media and platforms? If so, what minimum requirements would be necessary to preserve consumer trust?

The Commission seeks comment on whether the nation's alert and warning systems would be more effective if their design placed a greater focus on the capabilities of the end-user devices that receive and present alerts, rather than solely around the communications pathways that transmit them. For example, would EAS be more effective if consumer “smart” devices connected to the internet (e.g., radios, TVs, and other video displays) were able to directly receive EAS messages from alerting sources, regardless of the user's choice of programming at the time that the alert is received? Would this allow for new alerting capabilities that the current design of EAS cannot technically support? Could introducing the capability to receive and present EAS messages into end user devices promote flexibility and consumer choice by allowing for greater tailoring as to how alerts are received and presented (e.g., language, locations, screen placement, font size, text-to-speech, and other accessibility options)? Would these changes allow EAS to better achieve its public safety objectives or be a more efficient way of distributing alerts to the public? Would these changes enable the Commission to reduce regulatory burdens for EAS Participants? What communications paths (e.g., internet, radio, satellite) would be required to connect devices to alerting sources? What changes to or limitations imposed by communications service provider networks would affect implementation of these capabilities? The Commission invites comment on any technical or procedural challenges that equipment manufacturers would confront in supporting the capability to monitor IPAWS for EAS messages directly, rather than, or in addition to, receiving them from communications service providers. What can the Commission do to mitigate these challenges and otherwise encourage the adoption of alerting capabilities on end-user devices? How would these changes affect device costs, including upfront incremental labor and material costs for redesign, reprogramming, retooling, etc.?

The Commission seeks comment on the general public's experience with emergency alerts. Do consumers have frustrations with the alerts that they are receiving today, and if so, what are those frustrations? What can the Commission do to help alleviate them? Are there changes that should be made to how emergency alerts are presented to make them easier to understand? Are there end-user features that the public would like to see and utilize in their devices that are capable of presenting emergency messages? Conversely, are there end-user features that alert originators, Participating CMS Providers, or equipment and device manufacturers believe should not be left to end-user customization because they would likely frustrate the goal of these alerting systems? How can the Commission balance consumer choice over the products that consumers use and the emergency alerts that they want presented with alert originator expectations and objectives? Under what circumstances should one be prioritized over the other and how should the Commission measure the costs and benefits of those tradeoffs?

F. Other Issues

In light of the discussion above, the Commission seeks comment on whether EAS and WEA are meeting the needs and expectations of both the public and alerting authorities. Do EAS and WEA remain useful? Are there situations in which EAS and WEA are proving to have limited value and in what ways are they falling short? Do EAS and WEA need to be redesigned or otherwise modified to fully reach their potential for achieving the nation's alerting objectives? What should EAS and WEA be technically capable of achieving in the next five to ten years? What technical steps would need to be taken to implement these modifications, how long would they take, and how much would these technical steps cost? Conversely, are there aspects of EAS and WEA that exist today that do not serve the objectives discussed above that should be eliminated? Are there aspects of EAS and WEA whose purported benefits seem outweighed by the burdens involved in their provision? What costs would be associated with any steps taken to improve the effectiveness of EAS and WEA and how could the Commission limit these costs for small entities? The Commissions seek comment on whether certain reforms or modifications offer greater cost effectiveness than others or significantly improve outcomes that align with the objectives of EAS and WEA. Commenters are encouraged to submit quantitative analyses, supporting data, and documentation associated with the modernization or redesign of the EAS and WEA systems.

The Commission seeks comment on how increased training for alert originators, education for the public, and collaboration among all alerting stakeholders can help alerting systems meet the goals they are designed to achieve. Are there gaps in the trainings or best practices available to alert originators? Is there sufficient and meaningful public outreach and education about how alerts are received, alert system capabilities, the purpose of alerts, and the action the public should take if it receives an alert? If so, the Commission seeks comment on how these gaps should be filled, and who should be responsible for filling them. Can voluntary collaboration between alerting stakeholders help to close these gaps?

Initial Regulatory Flexibility Analysis

As required by the Regulatory Flexibility Act of 1980, as amended (RFA), the Commission has prepared this Initial Regulatory Flexibility Analysis (IRFA) of the policies and rules proposed in the NPRM assessing the possible significant economic impact on a substantial number of small entities. The Commission requests written public comments on this IRFA. Comments must be identified as responses to the IRFA and must be filed by the deadlines for comments specified on the first page of the NPRM. The Commission will send a copy of the NPRM, including this IRFA, to the Chief Counsel for the Small Business Administration (SBA) Office of Advocacy. In addition, the NPRM and IRFA (or summaries thereof) will be published in the Federal Register.

A. Need for, and Objectives of, the Proposed Rules

In the Communications Act of 1934, Congress mandated that the Commission promote the safety of life and property through the use of wire and radio communication, and, by extension, ensure that the public is able to receive critical information regarding impending disasters and other emergencies in a timely fashion. The performance and accessibility of the nation's alert and warning systems, which includes the Emergency Alert System (EAS) and Wireless Emergency Alert System (WEA), are essential to safeguarding the lives and property of all people. In the NPRM, the Commission seeks comment on the goals that the nation's public alert and warning systems should aim to achieve, how emergency alerting systems should be designed to achieve those objectives, what kinds of information emergency alerting systems need to convey to accomplish their objectives, how that information needs to be conveyed so that the objectives are fully realized, how emergency alert systems should be able to geographically target alerts so that their objectives are fully realized, and what kinds of end-user features they should offer to maximize value for recipients. The Commission also seeks comment on whether any changes should be made to EAS and WEA to either better ensure that nation's alerting objectives are being achieved or to eliminate unnecessary requirements that do not advance those objectives.

B. Legal Basis

The proposed action is authorized pursuant to sections 1, 2, 4(i), 4(n), 301, 303(b), 303(e), 303(g), 303(j), 303(r), 303(v), 307, 309, 316, 335, 403, 624(g), 706 and 713 of the Communications Act of 1934, as amended, 47 U.S.C. 151, 152, 154(i), 154(n), 301, 303(b), 303(e), 303(g), 303(j), 303(r), 303(v), 307, 309, 316, 335, 403, 544(g), 606, and 613, as well as by sections 602(a), (b), (c), (f), 603, 604 and 606 of the WARN Act, 47 U.S.C. 1201(a), (b), (c), (f), 1203, 1204 and 1205, and the National Defense Authorization Act for Fiscal Year 2021, Public Law 116-283, 134 Stat. 3388, 9201, 47 U.S.C. 1201, 1206.

C. Description and Estimate of the Number of Small Entities to Which the Proposed Rules Will Apply

The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

Small Businesses, Small Organizations, Small Governmental Jurisdictions. Our actions, over time, may affect small entities that are not easily categorized at present. The Commission therefore describes three broad groups of small entities that could be directly affected by our actions. First, while there are industry specific size standards for small businesses that are used in the regulatory flexibility analysis, in general, a small business is an independent business having fewer than 500 employees. These types of small businesses represent 99.9% of all businesses in the United States, which translates to 34.75 million businesses. Next, “small organizations” are not-for-profit enterprises that are independently owned and operated and not dominate their field. While the Commission does not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, the Commission estimates that at least 48,724 out of 90,835 local government jurisdictions have a population of less than 50,000.

Radio Stations. This industry is comprised of “establishments primarily engaged in broadcasting aural programs by radio to the public.” Programming may originate in their own studio, from an affiliated network, or from external sources. The SBA small business size standard for this industry classifies firms having $47 million or less in annual receipts as small. U.S. Census Bureau data for 2017 show that 2,963 firms operated in this industry during that year. Of this number, 1,879 firms operated with revenue of less than $25 million per year. Based on this data and the SBA's small business size standard, the Commission estimates a majority of such entities are small entities.

The Commission estimates that as of March 31, 2025, there were 4,367 licensed commercial AM radio stations and 6,621 licensed commercial FM radio stations, for a combined total of 10,988 commercial radio stations. Of this total, 10,987 stations (or 99.99%) had revenues of $47 million or less in 2023, according to Commission staff review of the BIA Kelsey Inc. Media Access Pro Database (BIA) on April 4, 2025, and therefore these licensees qualify as small entities under the SBA definition. In addition, the Commission estimates that as of March 31, 2025, there were 4,634 licensed noncommercial (NCE) FM radio stations, 1,976 low power FM (LPFM) stations, and 8,891 FM translators and boosters. The Commission however does not compile, and otherwise does not have access to financial information for these radio stations that would permit it to determine how many of these stations qualify as small entities under the SBA small business size standard. Nevertheless, given the SBA's large annual receipts threshold for this industry and the nature of radio station licensees, the Commission presumes that all of these entities qualify as small entities under the above SBA small business size standard.

The Commission notes, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. The Commission is unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

FM Translator Stations and Low Power FM Stations. FM translators and Low Power FM Stations are classified in the industry for Radio Stations. The Radio Stations industry comprises establishments primarily engaged in broadcasting aural programs by radio to the public. Programming may originate in their own studio, from an affiliated network, or from external sources. The SBA small business size standard for this industry classifies firms having $47 million or less in annual receipts as small. U.S. Census Bureau data for 2017 show that 2,963 firms operated during that year. Of that number, 1,879 firms operated with revenue of less than $25 million per year. Therefore, based on the SBA's size standard the Commission concludes that the majority of FM Translator stations and Low Power FM Stations are small. Additionally, according to Commission data, as of March 31, 2025, there were 8,891 FM Translator Stations and 1,976 Low Power FM licensed broadcast stations. The Commission, however, does not compile and otherwise does not have access to information on the revenue of these stations that would permit it to determine how many of the stations would qualify as small entities. For purposes of this regulatory flexibility analysis, the Commission presumes the majority of these stations are small entities.

Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $47 million or less in annual receipts as small. 2017 U.S. Census Bureau data indicate that 744 firms in this industry operated for the entire year. Of that number, 657 firms had revenue of less than $25 million per year. Based on this data the Commission estimates that the majority of television broadcasters are small entities under the SBA small business size standard.

As of March 31, 2025, there were 1,384 licensed commercial television stations. Of this total, 1,307 stations (or 94.4%) had revenues of $47 million or less in 2023, according to Commission staff review of the BIA Kelsey Inc. Media Access Pro Television Database (BIA) on April 4, 2025, and therefore these licensees qualify as small entities under the SBA definition. In addition, the Commission estimates as of March 31, 2025, there were 383 licensed noncommercial educational (NCE) television stations, 383 Class A TV stations, 1,786 LPTV stations and 3,099 TV translator stations. The Commission, however, does not compile and otherwise does not have access to financial information for these television broadcast stations that would permit it to determine how many of these stations qualify as small entities under the SBA small business size standard. Nevertheless, given the SBA's large annual receipts threshold for this industry and the nature of these television station licensees, the Commission presumes that all of these entities qualify as small entities under the above SBA small business size standard.

Cable Television Distribution Services. Cable television distribution services fall within the U.S. Census Bureau industry classification category of Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.

The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. The Commission notes however, that the Commission neither requests nor collects information on whether cable system operators are affiliated with entities whose gross annual revenues exceed $250 million. Therefore, the Commission is unable at this time to estimate with greater precision the number of cable system operators that would qualify as small cable operators under the definition in the Communications Act.

Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $44 million or less in annual receipts as small. U.S. Census Bureau data for 2017 show that 275 firms in this industry operated for the entire year. Of this number, 242 firms had revenue of less than $25 million. Consequently, using the SBA's small business size standard most satellite telecommunications service providers can be considered small entities. The Commission notes however, that the SBA's revenue small business size standard is applicable to a broad scope of satellite telecommunications providers included in the U.S. Census Bureau's Satellite Telecommunications industry definition. Additionally, the Commission neither requests nor collects annual revenue information from satellite telecommunications providers and is therefore unable to more accurately estimate the number of satellite telecommunications providers that would be classified as a small business under the SBA size standard.

All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g., dial-up ISPs) or Voice over Internet Protocol (VoIP) services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

Broadband Radio Service and Educational Broadband Service. Broadband Radio Service systems, previously referred to as Multipoint Distribution Service (MDS) and Multichannel Multipoint Distribution Service (MMDS) systems, and “wireless cable,” transmit video programming to subscribers and provide two-way high speed data operations using the microwave frequencies of the Broadband Radio Service (BRS) and Educational Broadband Service (EBS) (previously referred to as the Instructional Television Fixed Service (ITFS)). Wireless cable operators that use spectrum in the BRS often supplemented with leased channels from the EBS, provide a competitive alternative to wired cable and other multichannel video programming distributors. Wireless cable programming to subscribers resembles cable television, but instead of coaxial cable, wireless cable uses microwave channels.

In light of the use of wireless frequencies by BRS and EBS services, the closest industry with a SBA small business size standard applicable to these services is Wireless Telecommunications Carriers (except Satellite). The SBA small business size standard for this industry classifies a business as small if it has 1,500 or fewer employees. U.S. Census Bureau data for 2017 show that there were 2,893 firms that operated in this industry for the entire year. Of this number, 2,837 firms employed fewer than 250 employees. Thus under the SBA size standard, the Commission estimates that a majority of licensees in this industry can be considered small.

According to Commission data as of December 2021, there were approximately 5,869 active BRS and EBS licenses. The Commission's small business size standards with respect to BRS involves eligibility for bidding credits and installment payments in the auction of licenses for these services. For the auction of BRS licenses, the Commission adopted criteria for three groups of small businesses. A very small business is an entity that, together with its affiliates and controlling interests, has average annual gross revenues exceed $3 million and did not exceed $15 million for the preceding three years, a small business is an entity that, together with its affiliates and controlling interests, has average gross revenues exceed $15 million and did not exceed $40 million for the preceding three years, and an entrepreneur is an entity that, together with its affiliates and controlling interests, has average gross revenues not exceeding $3 million for the preceding three years. Of the ten winning bidders for BRS licenses, two bidders claiming the small business status won 4 licenses, one bidder claiming the very small business status won three licenses and two bidders claiming entrepreneur status won six licenses. One of the winning bidders claiming a small business status classification in the BRS license auction has an active licenses as of December 2021.

The Commission's small business size standards for EBS define a small business as an entity that, together with its affiliates, its controlling interests and the affiliates of its controlling interests, has average gross revenues that are not more than $55 million for the preceding five (5) years, and a very small business is an entity that, together with its affiliates, its controlling interests and the affiliates of its controlling interests, has average gross revenues that are not more than $20 million for the preceding five (5) years. In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time the Commission is not able to estimate the number of licensees with active licenses that would qualify as small under the SBA's small business size standard.

Direct Broadcast Satellite (DBS) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry.

The SBA small business size standard for Wired Telecommunications Carriers classifies firms having 1,500 or fewer employees as small. U.S. Census Bureau data for 2017 show that 3,054 firms operated in this industry for the entire year. Of this number, 2,964 firms operated with fewer than 250 employees. Based on this data, the majority of firms in this industry can be considered small under the SBA small business size standard. According to Commission data, however, only two entities provide DBS service—DIRECTV (owned by AT&T) and DISH Network, which require a great deal of capital for operation. DIRECTV and DISH Network both exceed the SBA size standard for classification as a small business. Therefore, the Commission must conclude based on internally developed Commission data, in general DBS service is provided only by large firms.

Radio and Television Broadcasting and Wireless Communications Equipment Manufacturing. This industry comprises establishments primarily engaged in manufacturing radio and television broadcast and wireless communications equipment. Examples of products made by these establishments are: transmitting and receiving antennas, cable television equipment, GPS equipment, pagers, cellular phones, mobile communications equipment, and radio and television studio and broadcasting equipment. The SBA small business size standard for this industry classifies businesses having 1,250 employees or less as small. U.S. Census Bureau data for 2017 show that there were 656 firms in this industry that operated for the entire year. Of this number, 624 firms had fewer than 250 employees. Thus, under the SBA size standard, the majority of firms in this industry can be considered small.

Electronic Computer Manufacturing. This industry comprises establishments primarily engaged in manufacturing and/or assembling electronic computers, such as mainframes, personal computers, workstations, laptops, and computer servers. Computers can be analog, digital, or hybrid. Digital computers, the most common type, are devices that do all of the following: (1) store the processing program or programs and the data immediately necessary for the execution of the program; (2) can be freely programmed in accordance with the requirements of the user; (3) perform arithmetical computations specified by the user; and (4) execute, without human intervention, a processing program that requires the computer to modify its execution by logical decision during the processing run. Analog computers are capable of simulating mathematical models and contain at least analog, control, and programming elements. The manufacture of computers includes the assembly or integration of processors, coprocessors, memory, storage, and input/output devices into a user-programmable final product. The SBA small business size standard for this industry classifies a business as small if it has 1,000 or fewer employees. According to U.S. Census Bureau data for 2017, there were 300 firms in this industry that operated for the entire year. Of this number, 291 firms had less than 250 employees. Consequently, the Commission estimates that the majority of firms in this industry are small entities.

Audio and Video Equipment Manufacturing. This industry comprises establishments primarily engaged in electronic audio and video equipment for home entertainment, motor vehicles, and public address and musical instrument amplification. Examples of products made by these establishments are video cassette recorders, televisions, stereo equipment, speaker systems, household-type video cameras, jukeboxes, and amplifiers for musical instruments and public address systems. The SBA small business size standard for this industry classifies firms with 750 employees or less as small. According to 2017 U.S. Census Bureau data, 464 firms in this industry operated that year. Of this number, 399 firms operated with less than 250 employees. Based on this data and the associated SBA size standard, the Commission concludes that the majority of firms in this industry are small.

Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

Broadband Personal Communications Service. The broadband personal communications services (PCS) spectrum encompasses services in the 1850-1910 and 1930-1990 MHz bands. The closest industry with a SBA small business size standard applicable to these services is Wireless Telecommunications Carriers (except Satellite). The SBA small business size standard for this industry classifies a business as small if it has 1,500 or fewer employees. U.S. Census Bureau data for 2017 show that there were 2,893 firms that operated in this industry for the entire year. Of this number, 2,837 firms employed fewer than 250 employees. Thus under the SBA size standard, the Commission estimates that a majority of licensees in this industry can be considered small.

Based on Commission data as of November 2021, there were approximately 5,060 active licenses in the Broadband PCS service. The Commission's small business size standards with respect to Broadband PCS involve eligibility for bidding credits and installment payments in the auction of licenses for these services. In auctions for these licenses, the Commission defined “small business” as an entity that, together with its affiliates and controlling interests, has average gross revenues not exceeding $40 million for the preceding three years, and a “very small business” as an entity that, together with its affiliates and controlling interests, has had average annual gross revenues not exceeding $15 million for the preceding three years. Winning bidders claiming small business credits won Broadband PCS licenses in C, D, E, and F Blocks.

In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these, at this time the Commission is not able to estimate the number of licensees with active licenses that would qualify as small under the SBA's small business size standard.

Narrowband Personal Communications Services. Narrowband Personal Communications Services (Narrowband PCS) are PCS services operating in the 901-902 MHz, 930-931 MHz, and 940-941 MHz bands. PCS services are radio communications that encompass mobile and ancillary fixed communication that provide services to individuals and businesses and can be integrated with a variety of competing networks. Wireless Telecommunications Carriers (except Satellite) is the closest industry with a SBA small business size standard applicable to these services. The SBA small business size standard for this industry classifies a business as small if it has 1,500 or fewer employees. U.S. Census Bureau data for 2017 show that there were 2,893 firms that operated in this industry for the entire year. Of this number, 2,837 firms employed fewer than 250 employees. Thus under the SBA size standard, the Commission estimates that a majority of licensees in this industry can be considered small.

According to Commission data as of December 2021, there were approximately 4,211 active Narrowband PCS licenses. The Commission's small business size standards with respect to Narrowband PCS involve eligibility for bidding credits and installment payments in the auction of licenses for these services. For the auction of these licenses, the Commission defined a “small business” as an entity that, together with affiliates and controlling interests, has average gross revenues for the three preceding years of not more than $40 million. A “very small business” is defined as an entity that, together with affiliates and controlling interests, has average gross revenues for the three preceding years of not more than $15 million. Pursuant to these definitions, 7 winning bidders claiming small and very small bidding credits won approximately 359 licenses. One of the winning bidders claiming a small business status classification in these Narrowband PCS license auctions had an active license as of December 2021.

In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time the Commission is not able to estimate the number of licensees with active licenses that would qualify as small under the SBA's small business size standard.

Wireless Communications Services. Wireless Communications Services (WCS) can be used for a variety of fixed, mobile, radiolocation, and digital audio broadcasting satellite services. Wireless spectrum is made available and licensed for the provision of wireless communications services in several frequency bands subject to Part 27 of the Commission's rules. Wireless Telecommunications Carriers (except Satellite) is the closest industry with an SBA small business size standard applicable to these services. The SBA small business size standard for this industry classifies a business as small if it has 1,500 or fewer employees. U.S. Census Bureau data for 2017 show that there were 2,893 firms that operated in this industry for the entire year. Of this number, 2,837 firms employed fewer than 250 employees. Thus under the SBA size standard, the Commission estimates that a majority of licensees in this industry can be considered small.

The Commission's small business size standards with respect to WCS involve eligibility for bidding credits and installment payments in the auction of licenses for the various frequency bands included in WCS. When bidding credits are adopted for the auction of licenses in WCS frequency bands, such credits may be available to several types of small businesses based average gross revenues (small, very small and entrepreneur) pursuant to the competitive bidding rules adopted in conjunction with the requirements for the auction and/or as identified in the designated entities section in part 27 of the Commission's rules for the specific WCS frequency bands.

In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time the Commission is not able to estimate the number of licensees with active licenses that would qualify as small under the SBA's small business size standard.

700 MHz Guard Band Licensees. The 700 MHz Guard Band encompasses spectrum in 746-747/776-777 MHz and 762-764/792-794 MHz frequency bands. Wireless Telecommunications Carriers (except Satellite) is the closest industry with an SBA small business size standard applicable to licenses providing services in these bands. The SBA small business size standard for this industry classifies a business as small if it has 1,500 or fewer employees. U.S. Census Bureau data for 2017 show that there were 2,893 firms that operated in this industry for the entire year. Of this number, 2,837 firms employed fewer than 250 employees. Thus under the SBA size standard, the Commission estimates that a majority of licensees in this industry can be considered small.

According to Commission data as of December 2021, there were approximately 224 active 700 MHz Guard Band licenses. The Commission's small business size standards with respect to 700 MHz Guard Band licensees involve eligibility for bidding credits and installment payments in the auction of licenses. For the auction of these licenses, the Commission defined a “small business” as an entity that, together with its affiliates and controlling principals, has average gross revenues not exceeding $40 million for the preceding three years, and a “very small business” an entity that, together with its affiliates and controlling principals, has average gross revenues that are not more than $15 million for the preceding three years. Pursuant to these definitions, five winning bidders claiming one of the small business status classifications won 26 licenses, and one winning bidder claiming small business won two licenses. None of the winning bidders claiming a small business status classification in these 700 MHz Guard Band license auctions had an active license as of December 2021.

In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time the Commission is not able to estimate the number of licensees with active licenses that would qualify as small under the SBA's small business size standard.

Lower 700 MHz Band Licenses. The lower 700 MHz band encompasses spectrum in the 698-746 MHz frequency bands. Permissible operations in these bands include flexible fixed, mobile, and broadcast uses, including mobile and other digital new broadcast operation; fixed and mobile wireless commercial services (including FDD- and TDD-based services); as well as fixed and mobile wireless uses for private, internal radio needs, two-way interactive, cellular, and mobile television broadcasting services. Wireless Telecommunications Carriers (except Satellite) is the closest industry with a SBA small business size standard applicable to licenses providing services in these bands. The SBA small business size standard for this industry classifies a business as small if it has 1,500 or fewer employees. U.S. Census Bureau data for 2017 show that there were 2,893 firms that operated in this industry for the entire year. Of this number, 2,837 firms employed fewer than 250 employees. Thus under the SBA size standard, the Commission estimates that a majority of licensees in this industry can be considered small.

According to Commission data as of December 2021, there were approximately 2,824 active Lower 700 MHz Band licenses. The Commission's small business size standards with respect to Lower 700 MHz Band licensees involve eligibility for bidding credits and installment payments in the auction of licenses. For auctions of Lower 700 MHz Band licenses the Commission adopted criteria for three groups of small businesses. A very small business was defined as an entity that, together with its affiliates and controlling interests, has average annual gross revenues not exceeding $15 million for the preceding three years, a small business was defined as an entity that, together with its affiliates and controlling interests, has average gross revenues not exceeding $40 million for the preceding three years, and an entrepreneur was defined as an entity that, together with its affiliates and controlling interests, has average gross revenues not exceeding $3 million for the preceding three years. In auctions for Lower 700 MHz Band licenses 72 winning bidders claiming a small business classification won 329 licenses, 26 winning bidders claiming a small business classification won 214 licenses, and three winning bidders claiming a small business classification won all five auctioned licenses.

In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time the Commission is not able to estimate the number of licensees with active licenses that would qualify as small under the SBA's small business size standard.

Upper 700 MHz Band Licenses. The upper 700 MHz band encompasses spectrum in the 746-806 MHz bands. Upper 700 MHz D Block licenses are nationwide licenses associated with the 758-763 MHz and 788-793 MHz bands. Permissible operations in these bands include flexible fixed, mobile, and broadcast uses, including mobile and other digital new broadcast operation; fixed and mobile wireless commercial services (including FDD- and TDD-based services); as well as fixed and mobile wireless uses for private, internal radio needs, two-way interactive, cellular, and mobile television broadcasting services. Wireless Telecommunications Carriers (except Satellite) is the closest industry with a SBA small business size standard applicable to licenses providing services in these bands. The SBA small business size standard for this industry classifies a business as small if it has 1,500 or fewer employees. U.S. Census Bureau data for 2017 show that there were 2,893 firms that operated in this industry for the entire year. Of that number, 2,837 firms employed fewer than 250 employees. Thus, under the SBA size standard, the Commission estimates that a majority of licensees in this industry can be considered small.

According to Commission data as of December 2021, there were approximately 152 active Upper 700 MHz Band licenses. The Commission's small business size standards with respect to Upper 700 MHz Band licensees involve eligibility for bidding credits and installment payments in the auction of licenses. For the auction of these licenses, the Commission defined a “small business” as an entity that, together with its affiliates and controlling principals, has average gross revenues not exceeding $40 million for the preceding three years, and a “very small business” an entity that, together with its affiliates and controlling principals, has average gross revenues that are not more than $15 million for the preceding three years. Pursuant to these definitions, three winning bidders claiming very small business status won five of the twelve available licenses.

In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time the Commission is not able to estimate the number of licensees with active licenses that would qualify as small under the SBA's small business size standard.

Advanced Wireless Services (AWS)—(1710-1755 MHz and 2110-2155 MHz bands (AWS-1); 1915-1920 MHz, 1995-2000 MHz, 2020-2025 MHz and 2175-2180 MHz bands (AWS-2); 2155-2175 MHz band (AWS-3); 2000-2020 MHz and 2180-2200 MHz (AWS-4)). Spectrum is made available and licensed in these bands for the provision of various wireless communications services. Wireless Telecommunications Carriers (except Satellite) is the closest industry with an SBA small business size standard applicable to these services. The SBA small business size standard for this industry classifies a business as small if it has 1,500 or fewer employees. U.S. Census Bureau data for 2017 show that there were 2,893 firms that operated in this industry for the entire year. Of this number, 2,837 firms employed fewer than 250 employees. Thus, under the SBA size standard, the Commission estimates that a majority of licensees in this industry can be considered small.

According to Commission data as of December 2021, there were approximately 4,472 active AWS licenses. The Commission's small business size standards with respect to AWS involve eligibility for bidding credits and installment payments in the auction of licenses for these services. For the auction of AWS licenses, the Commission defined a “small business” as an entity with average annual gross revenues for the preceding three years not exceeding $40 million, and a “very small business” as an entity with average annual gross revenues for the preceding three years not exceeding $15 million. Pursuant to these definitions, 57 winning bidders claiming status as small or very small businesses won 215 of 1,087 licenses. In the most recent auction of AWS licenses 15 of 37 bidders qualifying for status as small or very small businesses won licenses.

In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time the Commission is not able to estimate the number of licensees with active licenses that would qualify as small under the SBA's small business size standard.

The Educational Broadcasting Services. According to Commission data as of December 2021, there were 4,477 active EBS licenses. The Commission estimates that the majority of these licenses are held by non-profit educational institutions and school districts and are likely small entities.

Software Publishers. This industry comprises establishments primarily engaged in computer software publishing or publishing and reproduction. Establishments in this industry carry out operations necessary for producing and distributing computer software, such as designing, providing documentation, assisting in installation, and providing support services to software purchasers. These establishments may design, develop, and publish, or publish only. The SBA small business size standard for this industry classifies businesses having annual receipts of $47 million or less as small. U.S. Census Bureau data for 2017 indicate that 7,842 firms in this industry operated for the entire year. Of this number 7,226 firms had revenue of less than $25 million. Based on this data, the Commission concludes that a majority of firms in this industry are small.

Noncommercial Educational (NCE) and Public Broadcast Stations. Noncommercial educational broadcast stations and public broadcast stations are television or radio broadcast stations which under the Commission's rules are eligible to be licensed by the Commission as a noncommercial educational radio or television broadcast station and are owned and operated by a public agency or nonprofit private foundation, corporation, or association; or are owned and operated by a municipality which transmits only noncommercial programs for education purposes.

The SBA small business size standards and U.S. Census Bureau data classify radio stations and television broadcasting separately and both categories may include both noncommercial and commercial stations. The SBA small business size standard for both radio stations and television broadcasting classify firms having $47 million or less in annual receipts as small. For Radio Stations, U.S. Census Bureau data for 2017 show that 1,879 of the 2,963 firms that operated during that year had revenue of less than $25 million per year. For Television Broadcasting, U.S. Census Bureau data for 2017 show that 657 of the 744 firms that operated for the entire year had revenue of less than $25 million per year. While the U.S. Census Bureau data does not indicate the number of non-commercial stations, the Commission estimates that under the applicable SBA size standard the majority of noncommercial educational broadcast stations and public broadcast stations are small entities.

According to Commission data as of March 31, 2025, there were 5,017 licensed noncommercial educational radio and television stations. In addition, the Commission estimates as March 31, 2025, there were 383 licensed noncommercial educational (NCE) television stations, 383 Class A TV stations, 1,786 LPTV stations and 3,099 TV translator stations. The Commission does not compile and otherwise does not have access to financial information for these stations that permit it to determine how many stations qualify as small entities under the SBA small business size standards. However, given the nature of these services, the Commission will presume that all noncommercial educational and public broadcast stations qualify as small entities under the above SBA small business size standards.

Cable and Other Subscription Programming. The U.S. Census Bureau defines this industry as establishments primarily engaged in operating studios and facilities for the broadcasting of programs on a subscription or fee basis. The broadcast programming is typically narrowcast in nature (e.g., limited format, such as news, sports, education, or youth-oriented). These establishments produce programming in their own facilities or acquire programming from external sources. The programming material is usually delivered to a third party, such as cable systems or direct-to-home satellite systems, for transmission to viewers. The SBA small business size standard for this industry classifies firms with annual receipts less than $47 million as small. Based on U.S. Census Bureau data for 2017, 378 firms operated in this industry during that year. Of that number, 149 firms operated with revenue of less than $25 million a year and 44 firms operated with revenue of $25 million or more. Based on this data, the Commission estimates that a majority of firms in this industry are small.

D. Description of Economic Impact and Projected Reporting, Recordkeeping, and Other Compliance Requirements for Small Entities

The RFA directs agencies to describe the economic impact of proposed rules on small entities, as well as projected reporting, recordkeeping and other compliance requirements, including an estimate of the classes of small entities which will be subject to the requirements and the type of professional skills necessary for preparation of the report or record.

The Commission does not expect the actions proposed in the NPRM will impose additional reporting or recordkeeping requirements for small entities that currently participate in EAS or WEA. However, small and other EAS Participants and Participating CMS providers could be subject to compliance obligations based on the Commission's inquiries in the NPRM. In addition, the Commission explores how effectively the EAS and WEA systems are performing their objectives and what steps, if any, the Commission should take to update these capabilities for the modern technological environment. The Commission also seeks comment on how EAS and WEA are working in practice for the public and public safety authorities, and whether they are structured to perform efficiently and with minimal unnecessary burdens for stakeholders. This includes whether a new alerting system inclusive of other media and platforms is needed to reach the public given consumers' shift away from traditional platforms that transmit EAS alerts. Such a system may impact small entities affiliated with platforms that are not currently equipped to transmit EAS alerts.

At this time, the record does not include sufficient information to allow the Commission to effectively quantify the costs of compliance for small entities, including whether it will be necessary for small entities to hire professionals to comply with the matters upon which the Commission seeks comment in the NPRM. To help the Commission fully evaluate the cost of compliance for small entities, the Commission requests comment on the cost implications of potential changes to the EAS and/or WEA systems, including the quantification of, and any recommendations for, minimizing the costs for small entities related to the discussions in the NPRM. The Commission expects the information it receives in comments, including cost and benefit analyses, to help the Commission identify and evaluate relevant matters for small entities, including compliance costs and other burdens, that may result from the proposals and inquiries the Commission makes in the NPRM.

E. Discussion of Significant Alternatives Considered That Minimize the Significant Economic Impact on Small Entities

The RFA directs agencies to provide a description of any significant alternatives to the proposed rules that would accomplish the stated objectives of applicable statutes, and minimize any significant economic impact on small entities. The discussion is required to include alternatives such as: “(1) the establishment of differing compliance or reporting requirements or timetables that take into account the resources available to small entities; (2) the clarification, consolidation, or simplification of compliance or reporting requirements under the rule for such small entities; (3) the use of performance, rather than design, standards; and (4) and exemption from coverage of the rule, or any part thereof, for such small entities.”

In the NPRM, the Commission seeks comment on alternatives to the existing EAS and WEA, some of which may impact small entities if adopted. This includes whether a new alerting system, inclusive of other media and platforms with greater focus on the capabilities of end-use devices, is needed to reach the public, in contrast with the existing, traditional platforms that transmit EAS and WEA alerts. The NPRM also requests comment on whether and how the potential for non-government entities to send alerts during emergencies should be taken into account when modernizing EAS and WEA. The Commission seeks comment on whether the nation's alerting system should be designed to guarantee delivery of each alert, or whether those originating alerts should rely on “best effort” at delivery. Relatedly, the NPRM asks whether additional resiliency should be incorporated in EAS and WEA to allow for redundancy that could limit disruptions to emergency communications and promote the systems' objectives of widespread public notification about emergencies.

The Commission seeks comment on compliance cost information, including asking for recommendations to reduce any compliance burdens for EAS Participants and participating commercial service providers, including those that are small entities. The Commission expects to consider more fully the economic impact on small entities following its review of comments filed in response to the NPRM, including cost analysis information. The Commission's evaluation of the comments filed in this proceeding will shape the next steps it ultimately takes to ensure the effectiveness of EAS and WEA while also minimizing the economic impact and burdens that small entities may incur from any rules the Commission adopts in this proceeding.

F. Federal Rules That May Duplicate, Overlap, or Conflict With the Proposed Rules

None.

Ordering Clauses

Accordingly, it is ordered, pursuant to sections 1, 2, 4(i), 4(n), 301, 303(b), 303(e), 303(g), 303(j), 303(r), 303(v), 307, 309, 316, 335, 403, 624(g), 706 and 713 of the Communications Act of 1934, as amended, 47 U.S.C. 151, 152, 154(i), 154(n), 301, 303(b), 303(e), 303(g), 303(j), 303(r), 303(v), 307, 309, 316, 335, 403, 544(g), 606, and 613, as well as by sections 602(a), (b), (c), (f), 603, 604 and 606 of the WARN Act, 47 U.S.C. 1201(a), (b), (c), (f), 1203, 1204 and 1205, and the National Defense Authorization Act for Fiscal Year 2021, Public Law 116-283, 134 Stat. 3388, 9201, 47 U.S.C. 1201, 1206, that this Notice of Proposed Rulemaking is hereby adopted.

It is further ordered that, pursuant to applicable procedures set forth in §§ 1.415 and 1.419 of the Commission's rules, 47 CFR 1.415, 1.419, interested parties may file comments on the Notice of Proposed Rulemaking on or before 30 days after publication in the Federal Register, and reply comments on or before 45 days after publication in the Federal Register. Pursuant to Executive Order 14215, 90 FR 10447 (Feb. 20, 2025), this regulatory action has been determined to be significant under Executive Order 12866, 58 FR 68708 (Dec. 28, 1993).

It is further ordered that the Commission's Office of the Secretary shall send a copy of this Notice of Proposed Rulemaking, including the Initial Regulatory Flexibility Analysis, to the Chief Counsel for Advocacy of the Small Business Administration.

Federal Communications Commission.
Marlene Dortch,
Secretary, Office of the Secretary.

[FR Doc. 2025-16333 Filed 8-25-25; 8:45 am]

BILLING CODE 6712-01-P